DEPARTMENT OF THE TREASURY

Alcohol and Tobacco Tax and Trade Bureau

27 CFR Part 9

[Notice No. 59]

RIN: 1513-AB13

Proposed Establishment of the Outer Coastal Plain Viticultural Area (2003R-166P)

AGENCY: Alcohol and Tobacco Tax and Trade Bureau, Treasury.

ACTION: Notice of proposed rulemaking.

SUMMARY: The Alcohol and Tobacco Tax and Trade Bureau proposes to establish the Outer Coastal Plain viticultural area in southeastern New Jersey. The proposed viticultural area consists of approximately 2,255,400 acres and includes all of Cumberland, Cape May, Atlantic, and Ocean Counties and portions of Salem, Gloucester, Camden, Burlington, and Monmouth Counties. We designate viticultural areas to allow bottlers to better describe the origin of their wines and to allow consumers to better identify the wines they may purchase. We invite comments on this proposed addition to our regulations.

DATES: We must receive written comments on or before September 1, 2006.

ADDRESSES: You may send comments to any of the following addresses:

• Director, Regulations and Rulings Division, Alcohol and Tobacco Tax and Trade Bureau, Attn: Notice No. 59, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this proposal by appointment at the TTB Information Resource Center, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: Jennifer Berry, Alcohol and Tobacco Tax and Trade Bureau, Regulations and Rulings Division, P.O. Box 18152, Roanoke, VA 24014; telephone 540-344-9333.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Outer Coastal Plain Petition

James Quarella of Bellview Winery, Landisville, New Jersey, petitioned TTB to establish the “Outer Coastal Plain” as an American viticultural area in southeastern New Jersey. The proposed viticultural area covers approximately 2,255,400 acres and includes all of Cumberland, Cape May, Atlantic, and Ocean Counties and portions of Salem, Gloucester, Camden, Burlington, and Monmouth Counties. According to the petitioner, the area currently includes thirteen wineries, several vineyards, and approximately 750 acres planted to vines. We summarize below the evidence submitted in support of the petition.

Name Evidence

The Outer Coastal Plain is one of five defined physiographic regions of New Jersey. The other regions are the Inner Coastal Plain, the Newark Basin Piedmont, the Highlands, and the Appalachian Valley and Ridge.

The Outer Coastal Plain includes most of the State's Atlantic coastline and the area known as the “Pinelands.” The petitioner states that most geology reference sources and such government entities as the New Jersey Department of Environmental Protection, USGS, and the United States Department of Agriculture (USDA), call the region the “Outer Coastal Plain.”

As evidence that the proposed viticultural area is known locally and nationally by this name, the petitioner submitted several documents that identify the area as the “Outer Coastal Plain.” These included—

• A map from a National Park Service Web site showing landform regions in New Jersey (http://www.cr.nps.gov/history/online_books/nj2/chap1.htm.);

• A map entitled “Geographic Boundaries of the Outer Coastal Plain (OCP) of New Jersey,” issued by the New Jersey Department of Environmental Protection; and

• A list of native trees and shrubs for the Outer Coastal Plain on the Web site of the New Jersey Agricultural Experiment Station/Cook College, Rutgers, The State University of New Jersey (http://www.rce.rutgers.edu/njriparianforestbuffers/nativeOUTER.htm.).

The Outer Coastal Plain is part of the Atlantic Coastal Plain, an extensive seaward-sloping plain stretching about 2,200 miles along the coast of the Eastern United States from Massachusetts to Florida. It consists of an inner and outer coastal plain.

Boundary Evidence

The Outer Coastal Plain encompasses the southeastern part of the State of New Jersey. The proposed area is roughly triangular in shape and comprises the most easterly and southerly portions of New Jersey, including most of the State's Atlantic coastline and the area known as the “Pinelands” or “Pine Barrens.” According to the petitioner, the geographical and geological features that define the boundaries of the proposed viticultural area clearly distinguish it from surrounding areas. The proposed viticultural area's proximity to the Atlantic Ocean and Delaware Bay greatly influences its climate and geological features, such as soils and underlying sediments. These features are described in greater detail in the following section.

The Atlantic Ocean coastline, including its barrier islands, forms the area's eastern boundary, and Delaware Bay forms its southern boundary. The diagonal western boundary is immediately east of a belt of low hills, called cuestas. These cuestas, which extend in a northeasterly direction from the Delaware River lowlands in the southwest to the Atlantic Highlands overlooking Raritan Bay in the northeast, separate the proposed area from the Inner Coastal Plain. The diagonal western boundary meets the eastern boundary within the city of Long Branch, New Jersey, on the Atlantic coastline.

As historical evidence for these proposed boundaries, the petitioner cited the area's long viticultural history. According to evidence that the petitioner submitted, viticulture flourished in the area as early as the mid-nineteenth century. Egg Harbor City, New Jersey, was the center of a thriving wine industry with hundreds of acres of grapes. In 1864, Louis Renault established Renault Winery in Egg Harbor City, where he found the soils and climate to be similar to those of his native Rheims, France. Today, Renault Winery is one of the oldest, continuous winery operations in the United States. Around the same time, Dr. Thomas Welch founded the U.S. grape juice industry in Vineland, New Jersey, with a product that became known as Welch's Grape Juice. Although Prohibition devastated the area's wineries, the wine industry has made a strong comeback in recent years, due largely to the New Jersey Farm Winery Act of 1981. The number of wineries in the State jumped from 9 in 1981 to 27 today, 13 of which are in the proposed area.

Distinguishing Features

Soils and Geology

The petitioner asserts that the soils and geology of the proposed viticultural area clearly distinguish it from surrounding areas. Despite its large landmass, the Outer Coastal Plain has remarkably uniform, well drained sandy soils that derived from unconsolidated sediments. The relatively low fertility and low pH of these soils, the petitioner notes, are favorable for grape growing. In contrast to the soils of the Outer Coastal Plain, the fine, silty soils of the Inner Coastal Plain to the west have both higher fertility and higher pH and the soils to the north are dense, rocky, and derived from bedrock.

As evidence of the proposed viticultural area's distinctive geology, the petitioner submitted a document entitled “Geologic Map of New Jersey.” Published by the State's Department of Environmental Protection, this map clearly shows that most of the Outer Coastal Plain is underlain by unconsolidated deposits of sand, silt, and clay of the Tertiary period and that a small coastal fringe consists of beach and estuarine deposits of the Holocene epoch. The parent material of soils in other parts of the State formed in later geologic periods. The Inner Coastal Plain, in contrast, is underlain by sand, silt, and clay of the Cretaceous period, and the northern regions of the State are underlain by sedimentary, igneous, and metamorphic rocks of still later geologic periods.

According to the petitioner, a unique feature of the proposed viticultural area is its significant aquifers, particularly the Cohansey aquifer, the largest freshwater aquifer in the mid-Atlantic region. The petitioner states that this aquifer is so important to the region's drainage and water supply that it was one of the reasons the Pinelands National Reserve was created as a federally protected area. The Cohansey aquifer is part of the 1.93-million-acre Kirkwood-Cohansey aquifer system, the borders of which nearly correspond to those of the proposed viticultural area. These aquifers, the petitioner notes, provide an abundant source of water for the proposed viticultural area's vineyards. In contrast, the adjacent Inner Coastal Plain has smaller, confined aquifers, which are mostly in the Potomac-Raritan-Magothy aquifer system.

Elevation

The petitioner states that the proposed viticultural area's elevation is another feature that distinguishes it from adjacent areas. According to an elevation map issued by the New Jersey Geological Survey, almost the entire area has elevations of less than 280 feet above sea level, and most of the area has elevations significantly below that height. The petitioner notes that the proposed viticultural area's low elevation and proximity to the Atlantic Ocean are moderating influences on its climate, as described below. Elevations in the other regions of New Jersey are higher. Elevations in the northwestern part of the State, for example, range from 1,300 to 1,680 feet.

Climate

According to the petitioner, the climate of the Outer Coastal Plain is strongly influenced by the Atlantic Ocean to the east and Delaware Bay to the south. Because of this maritime influence on its climate, the proposed viticultural area is generally warmer, has a longer growing season, and has more moderate temperatures than areas to the west and north. As evidence of the maritime influence, the petitioner submitted a USDA plant hardiness zone map of New Jersey and noted that the proposed viticultural area is in zones 6B, 7A, or 7B, while areas to the north and west are in cooler zones and have shorter growing seasons. The petitioner also submitted a climate overview published on the Web site of the New Jersey State Climatologist. (See http://climate.Rutgers.edu/stateclim_v1/njclimoverview.html.) The overview shows that the proposed viticultural area ranges between 190 and 217 freeze-free days per year. In contrast, the Highlands region to the north averages 163 freeze-free days and the central Piedmont region averages 179 freeze-free days. The petitioner notes that because of these climatic differences, more temperature-sensitive grape varieties may be grown in vineyards within the proposed viticultural area than in vineyards in other adjacent regions.

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Outer Coastal Plain,” will be recognized under 27 CFR 4.39(i)(3) as a name of viticultural significance. The text of the new regulation would clarify this point. Consequently, wine bottlers using “Outer Coastal Plain” in a brand name, including a trademark, or in another label reference as to the origin of the wine, will have to ensure that the product is eligible to use the viticultural area's name as an appellation of origin. On the other hand, we do not believe that any single part of the proposed viticultural area name standing alone would have viticultural significance if the new area is established. Accordingly, the proposed part 9 regulatory text set forth in this document specifies only the full “Outer Coastal Plain” name as a term of viticultural significance for purposes of part 4 of the TTB regulations.

For a wine to be eligible to use as an appellation of origin a viticultural area name or other term specified as being viticulturally significant in part 9 of the TTB regulations, at least 85 percent of the wine must be derived from grapes grown within the area represented by that name or other term, and the wine must meet the other conditions listed in 27 CFR 4.25(e)(3). If the wine is not eligible to use the viticultural area name or other term as an appellation of origin and that name or term appears in the brand name, then the label is not in compliance and the bottler must change the brand name and obtain approval of a new label. Similarly, if the viticultural area name or other term appears in another reference on the label in a misleading manner, the bottler would have to obtain approval of a new label. Accordingly, if a new label or a previously approved label uses the name “Outer Coastal Plain” for a wine that does not meet the 85 percent standard, the new label will not be approved, and the previously approved label will be subject to revocation, upon the effective date of the approval of the Outer Coastal Plain viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, boundary, climatic, and other required information submitted in support of the petition. Please provide any available specific information in support of your comments.

Because of the potential impact of the establishment of the proposed Outer Coastal Plain viticultural area on brand labels that include the words “Outer Coastal Plain” as discussed above under “Impact on Current Wine Labels,” we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified or different name for the viticultural area.

In addition, TTB is interested in comments regarding the noninclusion within the proposed viticultural area of areas within other States that are part of the Atlantic Coastal Plain and that may therefore also have a claim to use of the name “Outer Coastal Plain,” including information on any wine grape-growing in those areas. In this regard, we invite comments on whether the name “New Jersey Outer Coastal Plain” would more appropriately identify the proposed viticultural area. Comments in this regard should include documentation or other information supporting the conclusion that use of “New Jersey Outer Coastal Plain” rather than only “Outer Coastal Plain” on a wine label would better enable consumers and vintners to attribute to the wine in question the quality, reputation, or other characteristic of wine made from grapes grown in the proposed viticultural area.

Submitting Comments

Please submit your comments by the closing date shown above in this notice. Your comments must include this notice number and your name and mailing address. Your comments must be legible and written in language acceptable for public disclosure. We do not acknowledge receipt of comments, and we consider all comments to be originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine whether to hold a public hearing.

Confidentiality

All submitted material is part of the public record and subject to disclosure. Do not enclose any material in your comments that you consider to be confidential or inappropriate for public disclosure.

Public Disclosure

You may view copies of this notice, the petition, the appropriate maps, and any comments we receive by appointment at the TTB Information Resource Center at 1310 G Street, NW., Washington, DC 20220. You may also obtain copies at 20 cents per 8.5- x 11- inch page. Contact our information specialist at the above address or by telephone at 202-927-2400 to schedule an appointment or to request copies of comments.

We will post this notice and any comments we receive on this proposal on the TTB Web site. All name and address information submitted with the comments will be posted, including e-mail addresses. We may omit voluminous attachments or material that we consider unsuitable for posting. In all cases, the full comment will be available in the TTB Information Resource Center. To access the online copy of this notice and the submitted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

Jennifer Berry and Linda Chapman of the Regulations and Rulings Division drafted this notice.

List of Subjects in 27 CFR Part 9

Wine.

Proposed Regulatory Amendment

For the reasons discussed in the preamble, we propose to amend 27 CFR, chapter 1, part 9, as follows:

PART 9—AMERICAN VITICULTURAL AREAS

1. The authority citation for part 9 continues to read as follows:

Authority: 27 U.S.C. 205.

Subpart C—Approved American Viticultural Areas

2. Amend subpart C by adding § 9.__ to read as follows:

§ 9.__ Outer Coastal Plain.

(a) Name. The name of the viticultural area described in this section is “Outer Coastal Plain”. For purposes of part 4 of this chapter, “Outer Coastal Plain” is a term of viticultural significance.

(b) Approved maps. The appropriate maps for determining the boundary of the Outer Coastal Plain viticultural area are seven United States Geological Survey topographic maps. They are titled—

(1) Wilmington, Delaware-New Jersey-Pennsylvania-Maryland, 1984, 1:100,000 scale;

(2) Hammonton, New Jersey, 1984, 1:100,000 scale;

(3) Trenton, New Jersey-Pennsylvania-New York, 1986, 1:100,000 scale;

(4) Long Branch, New Jersey, 1954, photorevised 1981, 1:24,000 scale;

(5) Atlantic City, New Jersey, 1984, 1:100,000 scale;

(6) Cape May, New Jersey, 1981, 1:100,000 scale; and

(7) Dover, Delaware-New Jersey-Maryland, 1984, 1:100,000 scale.

(c) Boundary. The Outer Coastal Plain viticultural area includes all of Cumberland, Cape May, Atlantic, and Ocean Counties and portions of Salem, Gloucester, Camden, Burlington, and Monmouth Counties in the State of New Jersey. The boundary of the Outer Coastal Plain viticultural area is as described below.

(1) The beginning point is on the Wilmington map at the confluence of Alloway Creek with the Delaware River (within Mad Horse Creek State Wildlife Management Area) in Salem County;

(2) From the beginning point, proceed northeasterly in a straight line to the village of Hagerville; then

(3) Continue north on an unnamed road locally known as County Road (CR) 658 to its intersection with State Route (SR) 49; then

(4) Proceed northwesterly on SR 49 to its intersection with SR 45 in the center of the town of Salem; then

(5) Proceed northeasterly on SR 45 to its intersection with SR 540 at the village of Pointers; then

(6) Proceed north on SR 540 into the village of Slapes Corner; then

(7) In Slapes Corner, proceed northeasterly on an unnamed road locally known as CR 646 to its intersection with the New Jersey Turnpike near the village of Auburn; then

(8) Proceed northeasterly on the New Jersey Turnpike for approximately 18 miles to its intersection with SR 47; then

(9) Proceed south on SR 47 for approximately 0.5 mile to its intersection with SR 534 at the village of Gardenville Center; then

(10) Proceed southeasterly through Gardenville Center on SR 534 to its intersection with SR 544; then

(11) Proceed northeasterly on SR 544 to its intersection with SR 73 on the Hammonton map; then

(12) Proceed north-northwesterly on SR 73 to its intersection with SR 70 in Cropwell; then

(13) Proceed east on SR 70 to its intersection with U.S. 206 in Red Lion; then

(14) Proceed north on U.S. 206, onto the Trenton map, to the village of Chambers Corner; then

(15) Proceed northeasterly on an unnamed road locally known as CR 537, through the village of Jobstown; then

(16) Continue northeasterly on CR 537, through the villages of Smithburg and Freehold, to its intersection with SR 18; then

(17) Proceed easterly on SR 18 to its intersection with the Garden State Parkway; then

(18) Proceed north on the Garden State Parkway and immediately exit onto SR 36 East and onto the Long Branch map; then

(19) Using the Long Branch map, continue east on SR 36 to where it intersects with Joline Avenue; then

(20) Proceed northeasterly on Joline Avenue to the Atlantic Ocean shoreline; then

(21) Follow the Atlantic Ocean shoreline south, encompassing all coastal islands, onto the Trenton, Hammonton, Atlantic City, and Cape May maps, to the city of Cape May; then

(22) Proceed west, then north, along the eastern bank of the Delaware River, onto the Atlantic City, Dover, and Wilmington maps to the beginning point.

Signed: June 26, 2006.
John J. Manfreda,
Administrator.

[FR Doc. E6-10384 Filed 6-30-06; 8:45 am]

BILLING CODE 4810-31-P